DEPARTMENT OF THE TREASURY

Internal Revenue Service

Credit for Renewable Electricity Production, Refined Coal Production, and Indian Coal Production, and Publication of Inflation Adjustment Factors and Reference Prices for Calendar Year 2010; Correction

AGENCY: Internal Revenue Service (IRS), Treasury.

ACTION: Correction to publication of inflation adjustment factors and reference prices for calendar year 2010.

SUMMARY: This document contains a correction to publication of inflation adjustment factors and reference prices for calendar year 2010 that was published in the Federal Register on Thursday, April 1, 2010 at 75 FR 16576 determining the availability of the credit for renewable electricity production, refined coal production, and Indian coal production under section 45.

FOR FURTHER INFORMATION CONTACT: Philip Tiegerman, (202) 622-3110 (not a toll-free call).

SUPPLEMENTARY INFORMATION:

Background

The publication of inflation adjustment factors and reference prices for calendar year 2010 that is the subject of this correction is required by section 45(e)(2)(a) of the Internal Revenue Code (26 U.S.C. 45(e)(2)(A)), section 45(e)(8)(C) (26 U.S.C. 45(e)(8)(C)), and section 45(e)(10)(C) (26 U.S.C. 45(e)(10)(C)).

Need for Correction

As published, the publication of inflation adjustment factors and reference prices for calendar year 2010 contains an error that may prove to be misleading and is in need of clarification.

Correction of Publication

Accordingly, the publication of inflation adjustment factors and reference prices for calendar year 2010, which was the subject of FR Doc. 2010-7263, is corrected as follows:

On page 16576, column 3, under the paragraph heading “Credit Amount by Qualified Energy Resource and Facility, Refined Coal, and Indian Coal:”, Line 26, the language “is 2.15 cents per kilowatt hour on the” is corrected to read “is 2.2 cents per kilowatt hour on the”.

LaNita Van Dyke,
Chief, Publications and Regulations Branch, Legal Processing Division, Associate Chief Counsel (Procedure and Administration).

[FR Doc. 2010-7931 Filed 4-7-10; 8:45 am]

BILLING CODE 4830-01-P